ENVIRONMENTAL PROTECTION AGENCY

40 CFR Part 63

[FRL-6768-5]

Project XL Site-Specific Rulemaking for Georgia-Pacific Corporation's Facility in Big Island, Virginia

AGENCY: Environmental Protection Agency.

ACTION: Proposed rule.

SUMMARY: Under the Project XL program, the Environmental Protection Agency (EPA) is supporting a project for the Georgia-Pacific Corporation facility located in Big Island, Virginia. The terms of the project are defined in the “Georgia-Pacific Corporation Big Island, Virginia Project XL Final Project Agreement.” To help implement this project, EPA is proposing amendments to Standards for Hazardous Air Pollutants From Chemical Recovery Combustion Sources at Kraft, Soda, Sulfite, and Stand-Alone Semichemical Pulp Mills, (promulgated in the Federal Register on January 12, 2001 (66 FR 3179). The amendments are applicable only to the Georgia-Pacific Big Island facility.

Because we do not anticipate receiving adverse comments on this rulemaking, the proposed amendments also are being issued as a direct final rule in the “Final Rules” section of today's Federal Register. If no significant and timely comments are received, no further action will be taken with respect to this proposal and the direct final rule will be become final on the date provided in that action.

DATES: Written comments must be received by April 25, 2001. Anyone requesting a public hearing must contact the EPA no later than April 5, 2001. If a hearing is held, it will be on April 23, 2001, beginning at 10:00 a.m. Requests to present oral testimony must be made by April 16, 2001. Persons interested in requesting a hearing, attending a hearing, or presenting oral testimony at a hearing should call Mr. David Beck at (919) 541-5421.

ADDRESSES: By U.S. Postal Service, send comments (in duplicate, if possible) to: Air and Radiation Docket and Information Center (6102), Attention Docket Number A-2000-42, U.S. EPA, 1200 Pennsylvania Avenue, NW., Washington, DC 20460. In person or by courier, deliver comments (in duplicate, if possible) to: Air and Radiation Docket and Information Center (6102), Attention Docket Number A-2000-42, U.S. EPA, 401 M Street, SW., Washington DC 20460. The EPA requests that a separate copy of each public comment be sent to the contact person listed below.

Comments also may be submitted electronically by sending electronic mail (e-mail) to: a-and-r-docket@epa.gov. Electronic comments must be submitted as an ASCII file avoiding the use of special characters and any form of encryption. Comments also will be accepted on diskette in WordPerfect or ASCII file format. All comments in electronic form must be identified by the docket number (No. A-2000-42). No confidential business information should be submitted through e-mail. Electronic comments may be filed online at many Federal Depository Libraries.

If a public hearing is held, it will take place at the EPA Office of Administration Auditorium, Research Triangle Park, North Carolina.

FOR FURTHER INFORMATION CONTACT: Mr. David Beck, Office of Environmental Policy Innovation, (MD-10), U.S. Environmental Protection Agency, Research Triangle Park, NC 27711, telephone number (919) 541-5427.

SUPPLEMENTARY INFORMATION: For additional information on the amendments and supplementary information related to the amendments, see the direct final rule published in the “Final Rules” section of today's Federal Register.

Dated: March 20, 2001.
Christine Todd Whitman,
Administrator.

[FR Doc. 01-7400 Filed 3-23-01; 8:45 am]

BILLING CODE 6560-50-P